DEPARTMENT OF JUSTICE

Notice of Lodging of Consent Decree Under the Comprehensive Environmental Response, Compensation and Liability Act

In accordance with 28 CFR 50.7, notice is hereby given that on August 20, 2012, a Consent Decree in United States v. Exxon Mobil Corporation, et al., C.A. No. 1-08-cv-124-IMK (N.D. W.Va.) was lodged with the United States District Court for the Northern District of West Virginia. The Consent Decree resolves the United States' claims, pursuant to Sections 106 and 107(a) of the Comprehensive Environmental Response, Compensation, and Liability Act (“CERCLA”), 42 U.S.C. 9606 and 9607(a), against Exxon Mobil Corporation, Vertellus Specialities Inc. and CBS Corporation related to the Big John's Salvage Site (“Site”), located in Fairmont, West Virginia. The State of West Virginia is a signatory to the Consent Decree. The BJS Site became contaminated with various hazardous substances as the result of the operations and related waste disposal practices of a coal refinery that operated there between approximately 1933 and 1973, and a scrap and salvage facility that operated there from 1973 to the early 1980s. Under the Consent Decree, the three settling parties will pay a portion of the United States' response costs in the amount of $11 million, perform/finance the removal activities selected by the Environmental Protection Agency in its Action Memorandum issued on September 30, 2010, and pay EPA's and the State's future response costs, as defined in the Consent Decree.

The Department of Justice will receive comments relating to the proposed Consent Decree for a period of thirty (30) days from the date of this publication. Comments should be addressed to the Assistant Attorney General, Environment and Natural Resources Division, and either emailed to pubcomment-ees.enrd@usdoj.gov, or mailed to P.O. Box 7611, U.S. Department of Justice, Washington, DC 20044-7611, and should refer to United States v. Exxon Mobil Corporation, et al., Department of Justice No. 90-11-3-08499.

During the comment period, the proposed Consent Decree, with Appendices A-H, may be examined on the following Department of Justice Web site, http://www.usdoj/enrd/Consent_Decrees.html. A copy of the Consent Decree may also be obtained from the Consent Decree Library, P.O. Box 7611, U.S. Department of Justice, Washington, DC 20044-7611, or by faxing or emailing a request to “Consent Decree Copy” (EESCDCopy.enrd@usdoj.gov), fax no. (202) 514-0097, phone confirmation number (202) 514-5271. In requesting a copy of the Consent Decree from the Consent Decree Library, please enclose a check in the amount of $23.25 (25 cents per page production cost) for the Consent Decree without the appendices. Several of the appendices are voluminous and the same cost (25 cents per page) will apply. If one or more of the appendices are requested, fax or email the request to “Consent Decree Copy” as indicated above and provide the requester's contact information to receive the cost of the requested appendices. Make checks payable to the U.S. Treasury or, if by email or fax, forward a check in that amount to the Consent Decree Library at the stated address.

Maureen Katz,
Assistant Chief, Environmental Enforcement Section, Environment and Natural Resources Division.

[FR Doc. 2012-20883 Filed 8-23-12; 8:45 am]

BILLING CODE 4410-15-P